DEPARTMENT OF COMMERCE

National Oceanic and Atmospheric Administration

[I.D. 060903A]

Notice of Availability of Draft Stock Assessment Reports

AGENCY: National Marine Fisheries Service (NMFS), National Oceanic and Atmospheric Administration (NOAA), Commerce.

ACTION: Notice of availability; request for comments.

SUMMARY: NMFS revised the Alaska, Atlantic and Gulf of Mexico, and Pacific marine mammal stock assessment reports (SARs) in accordance with the Marine Mammal Protection Act (MMPA). Draft 2003 reports are available for public review and comment.

DATES: Comments must be received by November 25, 2003.

ADDRESSES: Send comments or requests for copies of reports to: Chief, Marine Mammal Conservation Division, Office of Protected Resources, National Marine Fisheries Service, 1315 East-West Highway, Silver Spring, MD 20910-3226, Attn: Stock Assessments. Comments may also be sent via facsimile (fax) to 301-713-0376. NMFS will not accept comments submitted via e-mail or Internet.

Copies of the Alaska Regional SARs may be requested from Robyn Angliss, Alaska Fisheries Science Center, NMFS, 7600 Sand Point Way, NE BIN 15700, Seattle, WA 98115-0070.

Copies of the Atlantic and Gulf of Mexico Regional SARs may be requested from Janeen Quintal, Northeast Fisheries Science Center, 166 Water St., Woods Hole, MA 02543 or Steven Swartz, Southeast Fisheries Science Center, 75 Virginia Beach Dr., Miami, FL 33149.

Copies of the Pacific Regional SARs may be requested from Cathy Campbell, Southwest Regional Office, NMFS, 501 West Ocean Boulevard, Long Beach, CA 90802-4213.

FOR FURTHER INFORMATION CONTACT: Tom Eagle, Office of Protected Resources, 301-713-2322, ext. 105, e-mail Tom.Eagle@noaa.gov; Robyn Angliss 206- 526-4032, e-mail Robyn.Angliss@noaa.gov, regarding Alaska regional stock assessments; Janeen Quintal, 508-495-2252, e-mail Janeen.Quintal@noaa.gov, regarding Northwest Atlantic regional stock assessments; Steven Swartz, 305-361-4487, e-mail Steven.Swartz@noaa.gov, regarding Mid-Atlantic and Gulf of Mexico regional stock assessments; or Cathy Campbell, 562-280-4060, e-mail Cathy.E.Campbell@noaa.gov, regarding Pacific regional stock assessments.

SUPPLEMENTARY INFORMATION:

Electronic Access

All stock assessment reports and the guidelines for preparing them are available via the Internet at http://www.nmfs.noaa.gov/prot_res/PR2/Stock_Assessment_Program/sars.html.

Background

Section 117 of the Marine Mammal Protection Act (MMPA) (16 U.S.C. 1361 et seq.) requires NMFS and the U.S. Fish and Wildlife Service (FWS) to prepare stock assessments for each stock of marine mammals that occurs in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available and at least once every 3 years for non-strategic stocks. NMFS and the FWS are required to revise a SAR if the status of the stock has changed or can be more accurately determined. NMFS, in conjunction with the Alaska, Atlantic, and Pacific Scientific Review Groups, reviewed the status of marine mammal stocks as required and revised reports for which new information was available. A summary of notable changes is described for each region below. Also, each regional set of stock assessment reports and a summary table of the changes made for 2003 are available on the Internet (see electronic access) and may be requested in hard copy form (see ADDRESSES). NMFS solicits public comments on the draft Alaska, Atlantic and Gulf of Mexico, and Pacific reports.

Alaska Stocks

NMFS revised 14 reports for marine mammal stocks in the Alaska Region, and the remaining 18 reports were not revised. Most revisions included incorporating new abundance or mortality estimates into the reports and did not change the status of the stock.

Counts of northern fur seal pups in the Pribilof Islands declined more than 5 percent per year from 1998 to 2002. The abundance estimate of this stock is derived from pup counts and has also declined accordingly. The population estimate remains over 800,000 fur seals, direct human-caused mortality remains a small portion of the calculated PBR, and the stock remains identified as strategic due to its designation as depleted under the MMPA.

The abundance estimates for Pacific white-sided dolphins, Central North Pacific stock, and Dall's porpoise, Alaska stock, are more than 8 years old and are considered unreliable according to NMFS' guidelines for preparing marine mammal stock assessment reports (Wade and Angliss, 1997). In accordance with the guidelines, the PBR for Pacific white-sided dolphins has been changed to “undefined”. The PBR for Dall's porpoise is not changed to “undefined” because recent surveys in part of the range suggest the population remains quite large, and a new abundance estimate is expected to be available in the near future. The recent surveys in a portion of the range are considered compelling evidence that the Dall's porpoise population in Alaska has not declined; therefore, continued use of the PBR is consistent with NMFS' guidelines for preparing marine mammal stock assessment reports.

For humpback whales, Central North Pacific stock, the report was revised to include abundance, mortality, and PBR estimates for the Southeast Alaska feeding aggregation as well as for the entire stock. This change was based upon a recommendation from the Alaska SRG because humpback whales encountered in Southeast Alaska are likely to be part of the single feeding aggregation.

Atlantic and Gulf of Mexico Stocks

The SARs for marine mammal stocks in the Atlantic Ocean, including the Gulf of Mexico, contained revisions in 37 reports, and 20 reports were not revised. Most revisions were minor updates to abundance or mortality estimates and did not change the status of the affected stock of marine mammals.

The new mean annual mortality estimate for common dolphins, Western North Atlantic stock, is 190, and the PBR for this stock remains 227. Consequently, the status of common dolphins, Western North Atlantic stock, was revised from strategic to non-strategic.

A new abundance estimate for Cuvier's beaked whale, Northern Gulf of Mexico stock, is included in the 2003 draft SAR, and this new abundance estimate raises the PBR for the stock from 0.2 to 0.6. The section of the report on Human-Caused Mortality was revised to indicate that mortality of beaked whales has been associated with noise-generating activities in the ocean, and there are many such activities within portions of the Gulf of Mexico where beak whales are distributed. The report leads to the conclusion that there is a potential for human-caused mortality to exceed the stock's PBR level; therefore, following a precautionary approach, the Status of Stock section of the SAR was revised to label this stock as strategic. This section was also revised to clarify that fishery-related mortality and serious injury remains unknown; however, such mortality and serious injury can be considered at insignificant levels approaching a zero mortality and serious injury rate.

Pacific Stocks

The Pacific SARs contain revised stock assessments for 42 Pacific marine mammal stocks under NMFS' jurisdiction. Reports on the remaining 14 Pacific region stocks were not revised. Most revisions consisted of updates to abundance or mortality estimates that did not affect the status of the stock or the classification of any fishery that interacts with the stock. Three revisions included more than minor updates.

NMFS reinstated pygmy sperm whales (CA/OR/WA stock) to the list of marine mammal stocks for which a SAR is produced. Reinstatement was prompted by recent strandings of pygmy sperm whales, which indicate that pygmy sperm whales occur in waters under US jurisdiction more than rarely.

Harbor porpoise (Monterey Bay stock) was re-classified from strategic to non-strategic. Re-classification resulted from reduced mortality incidental to set gillnet fisheries within Monterey Bay. In 2001, the State of California largely closed gillnet fishing in the range of harbor porpoise under emergency regulations and made these regulations permanent in 2002.

Short-finned pilot whales (CA/OR/WA stock) were re-classified from non-strategic to strategic. Although the point estimate for incidental mortality and serious injury decreased in this update, the minimum abundance estimates also decreased from 717 to 149. The reduction in abundance was due to no sightings of pilot whales in the 2001 survey. Because pilot whale distribution appears variable and is likely related to specific oceanographic conditions, the reduction in abundance is not likely an indication that the actual number of pilot whales has been reduced. NMFS has previously observed fluctuations in sightings (thus, fluctuations in abundance estimates) of pilot whales during abundance surveys. These fluctuations are likely due to pilot whale distribution being affected by specific oceanographic conditions that sometimes are within the survey area and sometimes not. Because NMFS has no biological basis to adjust this abundance estimate to account for fluctuations in oceanographic conditions, the abundance estimate is a pooled estimate that includes results from surveys in 1996 and 2001. Thus, the lower abundance estimate likely reflects fluctuations in pilot whale distribution rather than fluctuations in the actual abundance of pilot whales.

Dated: August 19, 2003.
Donna Wieting,
Acting Director, Office of Protected Resources, National Marine Fisheries Service.

[FR Doc. 03-21859 Filed 8-26-03; 8:45 am]

BILLING CODE 3510-22-S